DEPARTMENT OF DEFENSE

Department of the Army, Corps of Engineers

33 CFR Chapter II

36 CFR Parts 312, 327, 328, 330, and 331

[COE-2017-0004]

United States Army, Corps of Engineers; Subgroup to the DoD Regulatory Reform Task Force, Review of Existing Rules

AGENCY: U.S. Army Corps of Engineers, DoD.

ACTION: Extension of comment period.

SUMMARY: On July 20, 2017, the U.S. Army Corps of Engineers (the Corps) published a document in accordance with Executive Order 13777, “Enforcing the Regulatory Reform Agenda.” In that document, the United States Army, Corps of Engineers Subgroup to the DoD Regulatory Reform Task Force said it is seeking input on its existing regulations that may be appropriate for repeal, replacement, or modification. The Corps is extending the comment period by 30 days. The extension of the comment period is a result of requests from a number of entities to allow more time to submit their comments.

DATES: The public comment period for the document published on July 20, 2017 (82 FR 33470), is extended until October 18, 2017.

ADDRESSES: You may submit comments, identified by docket number COE-2017-0004, by any of the following methods:

• Federal eRulemaking Portal (recommended method of comment submission): http://www.regulations.gov. Follow the on-line instructions for submitting comments.

• Email: CorpsRegulatoryReview@usace.army.mil and include docket number COE-2017-0004 in the subject line of the message.

• Mail: Headquarters, U.S. Army Corps of Engineers, Attn: CECW-CO-N (Ms. Mary Coulombe), 441 G Street NW., Washington, DC 20314-1000.

• Hand Delivery/Courier: Due to security requirements, we cannot receive comments by hand delivery or courier.

Instructions: Instructions for submitting comments are provided in the document published on July 20, 2017 (82 FR 33470). Consideration will be given to all comments received by October 18, 2017.

FOR FURTHER INFORMATION CONTACT: Mr. Ms. Mary Coulombe, 202-761-1228, mary.j.coulombe@usace.army.mil.

SUPPLEMENTARY INFORMATION: In the July 20, 2017, issue of the Federal Register (82 FR 33470), the United States Army, Corps of Engineers published a document to solicit input from the public to inform evaluation of the United States Army, Corps of Engineers existing regulations by the Task Force's United States Army, Corps of Engineers Subgroup. Several entities have requested an extension of the comment period. The Corps finds that an extension of the comment period is warranted. Therefore, the comment period for this proposed rule is extended until October 18, 2017.

Dated: September 11, 2017.
Richard L. Hansen,
Colonel, U.S. Army, Chief of Staff.

[FR Doc. 2017-19627 Filed 9-14-17; 8:45 am]

BILLING CODE 3720-58-P